DEPARTMENT OF TRANSPORTATION

Federal Aviation Administration

[Docket No. FAA-2025-2161]

Agency Information Collection Activities: Requests for Comments; Clearance of Renewed Approval of Information Collection: Changes in Permissible Stage 2 Airplane Operations

AGENCY: Federal Aviation Administration (FAA), DOT.

ACTION: Notice and request for comments.

SUMMARY: In accordance with the Paperwork Reduction Act of 1995, FAA invites public comments about our intention to request Office of Management and Budget (OMB) approval to renew an information collection. The collection involves information used to issue special flight authorizations for non-revenue transports and non-transport operations of Stage 2 jet airplanes at U.S. airports. Only a minimal amount of data is requested to identify the affected parties and determine whether the purpose of the flight is one of those enumerated by law. This collection is required under the Airport Noise and Capacity Act of 1990 (as amended by Pub. L. 106-113) and the FAA Modernization and Reform Act of 2012.

DATES: Comments should be submitted by November 24, 2025.

ADDRESSES: Please send written comments:

By Electronic Docket: www.regulations.gov (Enter docket number into search field).

FOR FURTHER INFORMATION CONTACT: Christopher Hobbs by email at: christopher.m.hobbs@faa.gov; phone: 202-267-7345.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0652.

Title: Changes in Permissible Stage 2 Airplane Operations.

Form Numbers: FAA Form 1050-8.

Type of Review: Renewal of an information collection.

Background: This collection is required under the Airport Noise and Capacity Act of 1990 (as amended by Pub. L. 106-113) and the FAA Modernization and Reform Act of 2012. This information is used by the FAA to issue special flight authorizations for nonrevenue operations of transports and non-transport jet Stage 2 airplanes at U.S. airports. Only a minimal amount of data is requested to identify the affected parties and determine whether the purpose of the flight is enumerated in the law.

Respondents: Approximately 30 applicants.

Frequency: Information is collected on occasion.

Estimated Average Burden per Response: 15 minutes.

Estimated Total Annual Burden: 7.5 hours.

Issued in Washington, DC, on 18 September 2025.
Christopher Hobbs,
Engineer, Noise Division, Office of Environment and Energy, Noise Division, AEE-100.

[FR Doc. 2025-18356 Filed 9-22-25; 8:45 am]

BILLING CODE 4910-13-P